DEPARTMENT OF DEFENSE

Defense Acquisition Regulations System

48 CFR Parts 215 and 233

[Docket DARS-2019-0001]

Defense Federal Acquisition Regulation Supplement: Technical Amendments

AGENCY: Defense Acquisition Regulations System, Department of Defense (DoD).

ACTION: Final rule.

SUMMARY: DoD is making technical amendments to the Defense Federal Acquisition Regulation Supplement (DFARS) to provide needed editorial changes.

DATES: Effective May 31, 2019.

FOR FURTHER INFORMATION CONTACT: Ms. Jennifer L. Hawes, Defense Acquisition Regulations System, OUSD(A&S)DPC(DARS), Room 3B941, 3060 Defense Pentagon, Washington, DC 20301-3060. Telephone 571-372-6115; facsimile 571-372-6094.

SUPPLEMENTARY INFORMATION: This final rule amends the DFARS as follows:

1. Provides direction to contracting officers at DFARS 215.406-2 to see DFARS Procedures, Guidance, and Information (PGI) 215.406-2 for additional information and guidance on Certificates of Current Cost or Pricing Data.

2. Provides direction to contracting officers at DFARS 233.171 to follow the procedures at DFARS PGI 233.171 for reporting information on protests involving the same contract award or proposed award that have been filed at both the Government Accountability Office and the United States Court of Federal Claims.

List of Subjects in 48 CFR Parts 215 and 233

Government procurement.

Jennifer Lee Hawes,
Regulatory Control Officer, Defense Acquisition Regulations System.

Therefore, 48 CFR parts 215 and 233 are amended as follows:

1. The authority citations for 48 CFR parts 215 and 233 continue to read as follows:

Authority: 41 U.S.C. 1303 and 48 CFR chapter 1.

PART 215—CONTRACTING BY NEGOTIATIONS

2. Section 215.406-2 is added to read as follows:

215.406-2 Certificate of Current Cost or Pricing Data.

See PGI 215.406-2 for additional information and guidance on Certificates of Current Cost or Pricing Data.

PART 233—SOLICITATION PROVISIONS AND CONTRACT CLAUSES

3. Section 233.171 is added to read as follows:

233.171 Reporting requirement for protests of solicitations or awards.

Follow the procedures at PGI 233.171 for reporting information on protests involving the same contract award or proposed award that have been filed at both the Government Accountability Office and the United States Court of Federal Claims.

[FR Doc. 2019-11418 Filed 5-30-19; 8:45 am]

BILLING CODE 5001-06-P